SMALL BUSINESS ADMINISTRATION

[Declaration of Disaster #3526]

State of Indiana; Amendment #3

In accordance with the notice received from the Department of Homeland Security—Federal Emergency Management Agency, effective August 18, 2003, the above numbered declaration is hereby amended to include Lake, Porter, and Vanderburgh Counties in the State of Indiana as a disaster area due to damages caused by severe storms, tornadoes, and flooding occurring on July 4, 2003 and continuing through August 6, 2003.

In addition, applications for economic injury loans from small businesses located in the following contiguous counties may be filed until the specified date at the previously designated location: Gibson, Pike, Posey, and Warrick Counties in the State of Indiana; Cook and Will Counties in the State of Illinois; and Henderson County in the Commonwealth of Kentucky. All other counties contiguous to the above named primary counties have been previously declared.

For economic injury, the number is 9W7300 for the Commonwealth of Kentucky.

All other information remains the same, i.e., the deadline for filing applications for physical damage is September 9, 2003, and for economic injury the deadline is April 12, 2004.

(Catalog of Federal Domestic Assistance Program Nos. 59002 and 59008)
Dated: August 19, 2003.
Herbert L. Mitchell,
Associate Administrator for Disaster Assistance.

[FR Doc. 03-21673 Filed 8-22-03; 8:45 am]

BILLING CODE 8025-01-P